DEPARTMENT OF TRANSPORTATION

Federal Motor Carrier Safety Administration

49 CFR Part 383

[Docket No. FMCSA-2017-0330]

RIN 2126-AC11

Controlled Substances and Alcohol Testing: State Driver's Licensing Agency Non-Issuance/Downgrade of Commercial Driver's License; Correction

AGENCY: Federal Motor Carrier Safety Administration (FMCSA), Department of Transportation (DOT).

ACTION: Final rule; correction.

SUMMARY: In a final rule published in the Federal Register on October 7, 2021, FMCSA amended its regulations to establish requirements for State Driver's Licensing Agencies to access and use information obtained through the Drug and Alcohol Clearinghouse, an FMCSA-administered database containing driver-specific controlled substance and alcohol records. The final rule included amendatory instructions that need to be corrected because of a subsequent, unrelated rulemaking action affecting the same section of the Federal Motor Carrier Safety Regulations. This notice makes that correction.

DATES: This correction is effective November 8, 2021.

FOR FURTHER INFORMATION CONTACT: Ms. Gian Marshall, Drug and Alcohol Programs Division, Federal Motor Carrier Safety Administration, 1200 New Jersey Avenue SE, Washington, DC 20590-0001, clearinghouse@dot.gov, (202) 366-0928.

SUPPLEMENTARY INFORMATION: On October 7, 2021, FMCSA published a final rule (86 FR 55718) with an effective date of November 8, 2021, which amended 49 CFR 383.73(a) by adding a new paragraph (a)(3). FMCSA published another final rule on October 14, 2021 (86 FR 57060), General Technical, Organizational, Conforming, and Correcting Amendments to the Federal Motor Carrier Safety Regulations, which renumbered the paragraphs under § 383.73(a) such that the amendment from the October 7, 2021, final rule could not be made to the CFR upon its effective date. Through this document, FMCSA corrects the October 7, 2021, final rule to add the new paragraph to § 383.73(a) as paragraph (a)(8) instead of paragraph (a)(3).

In FR Doc. 2021-21928 appearing on page 55718 in the Federal Register of October 7, 2021, the following corrections are made:

§ 383.73 [Corrected]

1. On page 55742, in the second column, in amendment 7a for § 383.73, the instruction “Adding paragraph (a)(3);” is corrected to read “Adding paragraph (a)(8);”.

§ 383.73 [Corrected]

2. On page 55742, in the second column, in the regulatory text for § 383.73, in paragraph (a), “(3)” is corrected to read “(8)”.

Issued under authority delegated in 49 CFR 1.87 and redelegated in FMCSA Order 1101.1b.
Larry W. Minor,
Associate Administrator for Policy.

[FR Doc. 2021-23596 Filed 10-28-21; 8:45 am]

BILLING CODE 4910-EX-P